SMALL BUSINESS ADMINISTRATION

Federal Assistance To Provide Counseling, Technical Assistance and Long Term Training to Small Business Owners and Those Interested in Starting a Small Business

AGENCY: Small Business Administration.

ACTION: SBDC 2003 Program Announcement for CY 2003.

SUMMARY: The Small Business Administration plans to issue a supplemental SBDC Program Announcement for CY 2003 to invite applicants from Institutions of Higher Education and Women's Business Centers to establish, manage, and oversee a Small Business Development Center (SBDC) Network in one of the areas corresponding to the areas served by each of the SBA District Offices in State of California.

The authorizing legislation is section 21 of the Small Business Act, (15 U.S.C. 648). SBA's California District Offices will hold bidders conferences according to the following schedule:

Sacramento District Office: April 22, 2003.

San Francisco District Office: April 22, 2003.

Fresno District Office: April 22, 2003.

Los Angeles District Office: April 24, 2003.

Santa Ana District Office: April 23, 2003.

San Diego District Office: April 24, 2004.

SBA's District Office(s) must receive applications/proposals by June 1, 2003.

SBA will select the applicants competitively. The successful applicant will receive an award to provide long term training, counseling and technical assistance to business persons who want to start or expand a small business.

The applicant must submit a six month plan to finish CY 2003 and an additional one year option plan for 2004 that describes the network, sources of match, training and technical assistance activities. Award recipients must provide non-Federal matching funds, i.e., one-non Federal dollar for each Federal dollar for the project-year. At least half of the matching requirement must be in cash. The remainder may be in-kind or waived indirect cost.

DATES: SBA will mail program announcements to interested parties, immediately, upon request. The opening date will be March 20, 2003.

FOR FURTHER INFORMATION CONTACT:

R. MARK QUINN, District Director, U.S. Small Business Administration, 455 Market Street, 6th Floor, San Francisco, CA 94105-2445, (415) 744-8474

MS. SANDRA SUTTON, District Director, U.S. Small Business Administration, 200 West Santa Ana Boulevard, Suite 700, Santa Ana, CA 92701, (714) 550-7420

MR. CARLOS G. MENDOZA, District Director, U.S. Small Business Administration, 2719 North Air Fresno Drive, Suite 200, Fresno, CA 93727-1547, (559) 487-5441

MR. ALBERTO G. ALVARADO, District Director, U.S Small Business Administration, 330 North Brand Boulevard, Suite 1200, Glendale, CA 91203-2304, (818) 552-3201

MR. DARPHUS J. O'NEAL, District Director, U.S. Small Business Administration, 650 Capital Mall, Suite 7-500, Sacramento, CA 95814-4708, (916) 930-3715

MR. GEORGE P. CHANDLER, JR., District Director, U.S. Small Business Administration, 550 West “C” Street, Suite 550, San Diego, CA 92101-3500, (619) 557-7250

or Tom Mueller, Deputy Associate Administrator for Small Business Development Centers, at (202) 205-7301.

Johnnie L. Albertson,
Associate Administrator for Small Business Development Centers.

[FR Doc. 03-6785 Filed 3-20-03; 8:45 am]

BILLING CODE 8025-01-P